DEPARTMENT OF ENERGY

Federal Energy Regulatory Commission

[Docket No. RP99-322-004]

Northern Border Pipeline Company; Notice of Compliance Tariff Filing

January 5, 2001.

Take notice that on December 29, 2000, Northern Border Pipeline Company (Northern Border) tendered for filing to become part of Northern Border Pipeline Company's FERC Gas Tariff, First Revised Volume No. 1, the tariff sheets listed on Appendix A to the filing, with the effective date as shown on Appendix A.

On September 26, 2000, Northern Border filed a Stipulation and Agreement (Stipulation) in Northern Border's rate case proceeding at Docket No. RP99-322-000, et al. In an order dated December 13, 2000 (93 FERC ¶ 61,261), the Commission approved the Stipulation. As provided for in Article VIII.A. of the Stipulation, Northern Border is filing compliance tariff sheets that are necessary after the issuance of the Commission's Order approving the Stipulation to conform the tariff revisions shown in Appendix C of the Stipulation with tariff revisions that were approved by the Commission in order separate proceedings that took place after the submission of the Stipulation, and to reflect the appropriate revision numbers and effective dates for the tariff sheets resulting from this proceeding into Northern Border's effective FERC Gas Tariff, First Revised Volume No. 1.

Northern Border states that it has served a copy of this filing upon all parties of record in this proceeding.

Any person desiring to be heard or to protest said filing should file a motion to intervene or a protest with the Federal Energy Regulatory Commission, 888 first Street, NE., Washington, DC 20426, in accordance with sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be reviewed on the web at http://www.ferc.fed.us/online/rims.htm (call 202-208-2222 for assistance). Comments and protests may be filed electronically via the internet in lieu of paper. See 18 CFR 385.2001(a)(1)(iii) and the instructions on the Commission's web site at http://www.ferc.fed.us/efi/doorbell.htm.

David P. Boergers,
Secretary.

[FR Doc. 01-852 Filed 1-10-01; 8:45 am]

BILLING CODE 6717-01-M